NEIGHBORHOOD REINVESTMENT CORPORATION

Sunshine Act Meetings; Special Board of Directors Meeting

TIME & DATE: 1:00 p.m., Friday, January 29, 2021.

PLACE: Via Conference Call.

STATUS: Open (with the exception of Executive Session).

MATTERS TO BE CONSIDERED:

The General Counsel of the Corporation has certified that in his opinion, one or more of the exemptions set forth in 5 U.S.C. 552 (b)(2) and (4) permit closure of the following portion(s) of this meeting:

• Executive Session

Agenda

I. CALL TO ORDER

II. Executive Session: NeighborWorks Compass Update

III. Action Item FY2021 Appropriation—Only Budget

IV. Action Item Authority for Monthly Health Insurance Invoices 2021

V. Adjournment

CONTACT PERSON FOR MORE INFORMATION: Lakeyia Thompson, Special Assistant, (202) 524-9940; Lthompson@nw.org.

Lakeyia Thompson,
Special Assistant.

[FR Doc. 2021-01378 Filed 1-15-21; 4:15 pm]

BILLING CODE 7570-02-P